DEPARTMENT OF COMMERCE

National Oceanic and Atmospheric Administration

[I.D. 082906A]

RIN 0648-AU89

Atlantic Highly Migratory Species; Atlantic Shark Management Measures

AGENCY: National Marine Fisheries Service (NMFS), National Oceanic and Atmospheric Administration (NOAA), Commerce.

ACTION: Notice of intent to prepare an environmental impact statement; request for comments.

SUMMARY: Based on several new shark stock assessments, NMFS has determined that a number of shark fisheries are overfished. As a result, NMFS announces its intent to prepare an Environmental Impact Statement (EIS) under the National Environmental Policy Act (NEPA) to assess the potential effects on the human environment and to initiate an amendment to the Consolidated Highly Migratory Species (HMS) Fishery Management Plan (FMP). The EIS and amendment will examine management alternatives available to rebuild sandbar, dusky, and porbeagle sharks, consistent with the shark stock assessments, the Magnuson-Stevens Fishery Conservation and Management Act (Magnuson-Stevens Act), and other relevant Federal laws. NMFS is requesting comments on a range of commercial and recreational management measures including, but not limited to, quota levels, regional and seasonal quotas, retention limits, minimum sizes, and time/area closures.

DATES: Comments on this action must be received no later than 5 p.m., local time, on February 5, 2007.

ADDRESSES: Written comments on this action should be mailed to Karyl Brewster-Geisz, Highly Migratory Species Management Division by any of the following methods:

• E-mail: SF1.082906A@noaa.gov. Include in the subject line the following identifier: “I.D. 082906A.”

• Written: 1315 East-West Highway, Silver Spring, MD 20910. Please mark the outside of the envelope “Scoping Comments on Amendment 2 to HMS FMP.”

• Fax: (301) 713-1917.

For a copy of the stock assessments, please contact Sarah McTee or Karyl Brewster-Geisz at (301) 713-2347.

FOR FURTHER INFORMATION CONTACT: Karyl Brewster-Geisz (301) 713-2347 or Jackie Wilson (404) 806-7622.

SUPPLEMENTARY INFORMATION:

Determination of Overfished Shark Fisheries

The Atlantic shark fisheries are managed under the authority of the Magnuson-Stevens Act. The Consolidated HMS FMP is implemented by regulations at 50 CFR part 635. NMFS' determination of the status of a stock relative to overfishing and an overfished condition is based on both the removal of fish from the stock through overfishing (the exploitation rate) and the current stock size. Thresholds used to determine the status of Atlantic HMS are fully described in Chapter 3 of the 1999 FMP for Atlantic Tunas, Swordfish, and Sharks. A species is considered overfished when the current biomass is less than the minimum stock size threshold. The minimum stock size threshold is determined based on the natural mortality of the stock and the biomass at maximum sustainable yield (BMSY). Maximum sustainable yield is the maximum long-term average yield that can be produced by a stock on a continuing basis. The biomass can be lower than BMSY, and the stock not declared overfished as long as the biomass is above the biomass at the minimum stock size threshold.

Overfishing may be occurring on a species if the current fishing mortality is greater than the fishing mortality (F) at maximum sustainable yield (FMSY) (F > FMSY). In the case of F, the maximum fishing mortality threshold is FMSY. Thus, if F exceeds FMSY, the stock is experiencing overfishing.

Background

Large Coastal Sharks (LCS)

The LCS complex is comprised of 11 species including sandbar, silky, tiger, blacktip, spinner, bull, lemon, nurse, scalloped hammerhead, great hammerhead, and smooth hammerhead sharks. Since the 1993 Shark FMP, LCS have been considered overfished, and management has been based on the results of assessments on the complex as a whole. The 2002 LCS stock assessment found that the LCS complex was overfished with overfishing occurring; sandbar sharks were not overfished but overfishing was occurring; and blacktip sharks were rebuilt and healthy. The latest 2005/2006 stock assessment of LCS in the U.S. Atlantic and Gulf of Mexico was recently completed (July 24, 2006; 71 FR 41774). This assessment was conducted according to the Southeast Data, Assessment, and Review (SEDAR) process, was peer-reviewed, provides an update on the status of LCS stocks, and projects their future abundance under a variety of catch levels in waters off the U.S. Atlantic and Gulf of Mexico coasts. The 2005/2006 assessment includes catch estimates, new biological data, and a number of fishery-independent catch rate series, as well as extended fishery-dependent catch rate series.

Unlike past assessments, the 2005/2006 LCS stock assessment determined that it is inappropriate to assess the LCS complex as a whole. Due to the variation in life history parameters, different intrinsic rates of increase, and different catch and abundance data for all the species included in the LCS complex, the peer reviewers felt it was unclear what exactly the results of the assessment represented, making it impossible to support the use of the results for management of the complex. The peer reviewers also felt that previous assessments that used the same approach and similar data would receive the same criticisms. NMFS is continuing to examine viable options to assess shark populations. Based on these results, NMFS is changing the status of the LCS complex from overfished to unknown.

Sandbar Sharks

According to the 2005/2006 LCS stock assessment, sandbar sharks are overfished with the current stock abundance at 35 percent of the virgin biomass. The assessment also indicates overfishing is occurring (F2004/FMSY = 3.72). The assessment recommends that rebuilding could be achieved with 70 percent probability by 2070 with a total allowable catch across all fisheries (commercial and recreational) of 220 metric tons (mt) whole weight (ww) each year and an F between 0.009 and 0.011. Based on these results, NMFS is declaring the status of sandbars sharks to be overfished with overfishing occurring.

Blacktip Sharks

The 2005/2006 LCS stock assessment assessed blacktip sharks for the first time as two separate populations: a Gulf of Mexico population and an Atlantic population. The results from the stock assessment indicate that the Gulf of Mexico population is rebuilt. The peer reviewers indicated that current catches should not increase in order to keep this population at a sustainable level. Based on these results, NMFS is declaring the status of Gulf of Mexico blacktip shark population as not overfished with no overfishing occurring.

The assessment also indicates that the current status for the Atlantic blacktip shark population is unknown. The assessment scientists were unable to provide estimates of stock status or reliable population projections. The peer reviewers agreed with the assessment scientists and indicated that current catch levels should not change. Based on these results, NMFS is declaring the status of the Atlantic blacktip shark population to be unknown.

Dusky Sharks

In 1999, dusky sharks, which were in the LCS complex, were placed on the prohibited species list due to their low population growth rate and low reproductive potential. In 2003, in Amendment 1 to the FMP for Atlantic Tunas, Swordfish, and Sharks (68 FR 74746), NMFS established a Mid-Atlantic shark closure to protect dusky sharks and juvenile sandbar sharks. Due to high catch rates of dusky sharks in the shark bottom longline fishery in the closed area and the high mortality of dusky sharks on bottom longline gear, NMFS closed this area to bottom longline fishing from January 1 through July 31 of every year, starting in January 2005. The first dusky-specific shark assessment was released in May 2006 (71 FR 30123). The 2006 dusky shark stock assessment used data through 2003 and indicates that dusky sharks are overfished with overfishing occurring. The estimated stock depletions are between 62-80 percent with respect to virgin biomass. Given the heavy fishing impact on this stock and high vulnerability to exploitation, the assessment scientists recommend that rebuilding for dusky sharks could require 100 to 400 years. Based on these results, NMFS is declaring the status of dusky sharks as overfished with overfishing occurring.

Porbeagle Sharks

Canada has conducted stock assessments on porbeagle sharks in 1999, 2001, 2003, and 2005. Based on the 2001 stock assessment, the Committee on the Status of Endangered Wildlife in Canada designated the porbeagle shark as endangered. Reduced Canadian porbeagle quotas in 2002 brought the 2004 exploitation rate to a sustainable level. According to the 2005 recovery assessment report conducted by Canada, the North Atlantic porbeagle stock has a 70 percent probability of recovery in approximately 100 years if F is less than or equal to 0.04. To date, the United States has not conducted a stock assessment on porbeagle sharks.

NMFS has reviewed the Canadian stock assessment and deems it to be the best available science appropriate to use for U.S. domestic management purposes. The Canadian assessment indicates that porbeagle sharks are overfished with the 2005 abundance less than 15 percent (for female spawner abundance) or 24 percent (for total abundance) of the virgin biomass. However, the Canadian assessment indicates that overfishing is not occurring. Based on these results, NMFS is declaring the status of porbeagle sharks as overfished, but overfishing is not occurring.

Copies of the assessments are available for review (see ADDRESSES).

Request for Comments

NMFS anticipates significant changes to shark management via an amendment to the Consolidated HMS FMP as a result of the latest stock assessments and requests comments on a variety of management options for this action. Analyses of these changes would likely need to be done via an EIS. As such, NMFS specifically requests comments on commercial management options including, but not limited to, quota levels, regional and seasonal quotas, trip limits, minimum sizes, quota monitoring, applying dead discards and state landings after a Federal closure to the quota, counting quota over- and underages, authorized gears, permit structure, prohibited species, and the Mid-Atlantic shark closure. In addition, NMFS is seeking comments on recreational management options including retention limits, minimum sizes, authorized gears, and landing requirements. NMFS also seeks comments on display quotas and collection of sharks through exempted fishing permits, display permits, and scientific research permits. Comments received on this action will assist NMFS in determining the options for ways to conserve and manage shark resources and shark fisheries, consistent with the Magnuson-Stevens Act, the Consolidated HMS FMP, NEPA, and other relevant domestic laws. Within the comment period established in this action, NMFS will hold scoping meetings to gather public comment on the implementation of new management measures for Atlantic sharks (time and location details of which will be announced in a subsequent Federal Register notification).

Based on the 2005 and 2006 stock assessments, NMFS believes the implementation of new management measures via an amendment to the Consolidated HMS FMP is necessary to rebuild sandbar, dusky, and porbeagle sharks while providing an opportunity for the sustainable harvest of blacktip sharks in the Gulf of Mexico. NMFS anticipates completing this amendment and any related documents by January 1, 2008.

Authority: 16 U.S.C. 1801 et seq.

Dated: November 1, 2006.
James P. Burgess,
Acting Director, Office of Sustainable Fisheries, National Marine Fisheries Service.

[FR Doc. E6-18782 Filed 11-6-06; 8:45 am]

BILLING CODE 3510-22-S